DEPARTMENT OF EDUCATION

List of Correspondence From April 1, 2018, Through December 31, 2018

AGENCY: Office of Special Education and Rehabilitative Services, Department of Education.

ACTION: Notice.

SUMMARY: The Secretary is publishing the following list of correspondence from the U.S. Department of Education (Department) received by individuals during the second, third, and fourth quarters of 2018. The correspondence describes the Department's interpretations of the Individuals with Disabilities Education Act (IDEA) or the regulations that implement IDEA. This list and the letters or other documents described in this list, with personally identifiable information redacted, as appropriate, can be found at www2.ed.gov/policy/speced/guid/idea/index.html.

FOR FURTHER INFORMATION CONTACT: Jessica Spataro, U.S. Department of Education, 400 Maryland Avenue SW, Room 5112, Potomac Center Plaza, Washington, DC 20202-2500. Telephone: (202) 245-6493.

If you use a telecommunications device for the deaf (TDD) or a text telephone (TTY), you can call the Federal Relay Service (FRS), toll free, at 1-800-877-8339.

Individuals with disabilities can obtain a copy of this list and the letters or other documents described in this list in an accessible format (e.g., Braille, large print, audiotape, or compact disc) by contacting Jessica Spataro at (202) 245-6493.

SUPPLEMENTARY INFORMATION: The following list identifies correspondence for three calendar quarters, April 1, 2018, through December 31, 2018. Under section 607(f) of IDEA, the Secretary is required to publish this list quarterly in the Federal Register. The list includes those letters that contain interpretations of the requirements of IDEA and its implementing regulations, as well as letters and other documents that the Department believes will assist the public in understanding the requirements of the law. The list identifies the date and topic of each letter and provides summary information, as appropriate. To protect the privacy interests of the individual or individuals involved, personally identifiable information has been redacted, as appropriate.

2018—Second Quarter Letters

Part B—Assistance for Education of All Children With Disabilities

Section 612—State Eligibility

Topic Addressed: Free Appropriate Public Education

○ Letter dated April 18, 2018, to Rhode Island attorney David Kane, clarifying the obligation of local educational agencies (LEAs) to provide compensatory services to make up for special education and related services missed when children with disabilities participate in required scheduled State assessment testing.

Topic Addressed: State Educational Agency (SEA) General Supervisory Authority

○ Letter dated April 19, 2018, to individual Marcie Lipsitt, regarding an SEA's authority to order compensatory services as a remedy through the State complaint process.

Section 614—Evaluations, Eligibility Determinations, Individualized Education Programs, and Educational Placements

Topic Addressed: Individualized Education Programs (IEPs)

○ Letter dated April 19, 2018, to Lehigh University Professor of Education and Law, Perry A. Zirkel, regarding dissenting opinions from IEP Team members.

○ Letter dated April 19, 2018, to California attorney Brian Carol, regarding implementation of an IEP for a preschool student who attends school less than five days per week.

Topic Addressed: Evaluations and Reevaluations

○ Letter dated May 10, 2018, to Lehigh University Professor of Education and Law, Perry A. Zirkel, clarifying the requirements for evaluating a child suspected of having a specific learning disability to determine whether the child is eligible to receive special education and related services under IDEA.

Section 615—Procedural Safeguards

Topic Addressed: Independent Educational Evaluations

○ Letter dated June 28, 2018, to individual (personally identifiable information redacted), regarding whether the school must continue to provide special education and related services during the time in which the parents request an independent educational evaluation because they disagree with a reevaluation and subsequent IEP team eligibility determination.

2018—Third Quarter Letters

Part B—Assistance for Education of All Children With Disabilities

Section 602—Definitions

Topic Addressed: Related Services

○ Letter dated August 2, 2018, to National Center on Deaf-Blindness Director, Linda McDowell, regarding whether the services of interveners can be considered an appropriate related service for children who are deaf-blind.

Section 612—State Eligibility

Topic Addressed: Child Find

○ Letter dated August 2, 2018, to California attorney Lawrence Siegel, clarifying whether there is a general notification requirement to all parents regarding special education laws and processes.

Section 614—Evaluations, Eligibility Determinations, Individualized Education Programs, and Educational Placements

Topic Addressed: Evaluations and Reevaluations

○ Letter dated August 2, 2018, to individual (personally identifiable information redacted), regarding LEA responsibilities for children with disabilities who transfer to a new State within the same school year.

Section 615—Procedural Safeguards

Topic Addressed: Placement in Alternative Educational Setting

○ Letter dated July 27, 2018, to Tennessee attorney Carrie Mason, clarifying when partial day exclusions from school would count toward a disciplinary change in placement under the discipline procedures of the IDEA.

Topic Addressed: Independent Educational Evaluation

○ Letter dated August 23, 2018, to individual (personally identifiable information redacted), regarding whether a public agency may limit the amount of time an independent evaluator is allotted to observe a child in the child's educational setting when the evaluator is paid by the parent.

Topic Addressed: Impartial Due Process Hearings

○ Letter dated August 23, 2018, to Texas attorney Devin Fletcher, regarding the scheduling of due process hearings and expedited due process hearings when there are less than 20 school days left in the school year.

2018—Fourth Quarter Letters

Part C—Infants and Toddlers With Disabilities

Section 634—Eligibility

Topic Addressed: Evaluations

○ Letter dated December 20, 2018, to National Center for Hearing Assessment and Management, Early Childhood Hearing Outreach Initiative, Director, William Eiserman, regarding the evaluation process for an infant or toddler suspected of being deaf or hard of hearing to determine eligibility for early intervention services under Part C of IDEA.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Johnny W. Collett,
Assistant Secretary for Special Education and Rehabilitative Services.

[FR Doc. 2019-14857 Filed 7-11-19; 8:45 am]

BILLING CODE 4000-01-P